DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2013, there were four applications approved. This notice also includes information on two applications, one approved in January 2012 and the other approved in September 2013, inadvertently left off the January 2012 and September 2013 notices, respectively. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Burlington, Vermont.

Application Number: 11-05-C-00-BTV.

Application Type: Impose and use a PFC.

PFC Level: $4.50.

Total PFC Revenue Approved in This Decision: $5,240,755.

Earliest Charge Effective Date: April 1, 2014.

Estimated Charge Expiration Date: February 1, 2016.

Class of Air Carriers Not Required to Collect PFC's: On-demand air taxi commercial operators.

Determination: Approved. Based on information contained in the public agency's application, the FAA has determined that the approved class accounts for less than 1 percent of the total annual enplanements at Burlington International Airport.

Brief Description of Projects Approved for Collection and Use:

Snow removal equipment purchase.

Rehabilitate a portion of the cargo apron.

Terminal building renovation.

Land acquisition for noise abatement.

Land acquisition for development.

Reconstruct, mark and light taxiway A north.

Storm water management plan.

Security projects.

Airport master plan and airport layout plan updates.

Runway 15-33 pavement evaluation and rehabilitate study.

North terminal and apron—phase 2 and glycol deicing system.

Noise study and noise compatibility study.

Taxiway lighting.

Reconstruct and mark runway 15/33.

Extend runway 19 and taxiway A.

PFC application costs.

Reconstruct, mark and light a portion of taxiway C.

Brief Description of Project Partially Approved for Collection and Use:

South end development projects.

Determination: Partially approved. One of the proposed components of this project was also requested under a different project in this application. The component, acquisition of the Roberts land, was approved under the project titled “land acquisition for development” above and is disallowed in this project.

Brief Description of Withdrawn Project:

Taxiway G extension and taxiway B reconstruction.

Date of Withdrawal: January 20, 2012.

Decision Date: January 31, 2012.

FOR FURTHER INFORMATION CONTACT: Priscilla Scott, New England Region Airports Division, (781) 238-7614.

Public Agency: County of Campbell/Gillette-Campbell County Airport Board, Gillette, Wyoming.

Application Number: 13-09-C-00-GCC.

Application Type: Impose and use a PFC.

PFC Level: $4.50.

Total PFC Revenue Approved in This Decision: $405,826.

Earliest Charge Effective Date: October 1, 2014.

Estimated Charge Expiration Date: December 1, 2017.

Class of Air Carriers Not Required to Collect PFC's: Air taxi/commercial operators filing FAA Form 1800-31.

Determination: Approved. Based on information contained in the public agency's application, the FAA has determined that the approved class accounts for less than 1 percent of the total annual enplanements at Gillette-Campbell County Airport.

Brief Description of Projects Approved for Collection and Use:

Acquire snow removal equipment.

Realign airport access road.

PFC administration.

Decision Date: September 27, 2013.

FOR FURTHER INFORMATION CONTACT: Jesse Lyman, Denver Airports District Office, (303) 342-1262.

Public Agency: Metropolitan Nashville Airport Authority, Nashville, Tennessee.

Application Number: 13-19-C-00-BNA.

Application Type: Impose and use a PFC.

PFC Level: $4.50.

Total PFC Revenue Approved in this Decision: $4,430,000.

Earliest Charge Effective Date: August 1, 2017.

Estimated Charge Expiration Date: November 1, 2017.

Class of Air Carriers Not Required to Collect PFC's: Air taxi/commercial operators filing FAA Form 1800-31 and operating at Nashville International Airport (BNA).

Determination: Approved. Based on information contained in the public agency's application, the FAA has determined that the approved class accounts for less than 1 percent of the total annual enplanements at BNA.

Brief Description of Project Approved for Collection and Use at a $4.50 PFC Level:

Reconstruct runway 13/31 west.

Brief Description of Projects Approved for Collection and Use at a $3.00 PFC Level:

Improve storm water collection and treatment system.

Operations 14 CFR Part 139 online training and 49 CFR Part 1542.

Decision Date: October 3, 2013.

FOR FURTHER INFORMATION CONTACT: Cynthia Wills, Memphis Airports District Office, (901) 322-8190.

Public Agency: Phoenix—Mesa Gateway Airport Authority, Mesa, Arizona.

Application Number: 13-03-C-00-IWA.

Application Type: Impose and Use a PFC.

PFC Level: $4.50.

Total PFC Revenue Approved in this Decision: $23,927,638.

Earliest Charge Effective Date: July 1, 2017.

Estimated Charge Expiration Date: January 1, 2023.

Class of Air Carriers not Required to Collect PFC's: None.

Brief Description of Projects Approved for Collection and Use:

Environmental assessment for the northeast terminal.

Benefit cost analysis for the northeast terminal development.

Construct taxilane L extension—phase II.

Construct Alpha apron expansion—phase III.

Construct paralle taxiway C extension—phase II.

PFC administration costs.

Brief Description of Projects Approved for Use:

Design/construct fuel farm expansion.

Design/reconstruct taxiway P.

Brief Description of Project Approved for Collection:

West terminal expansion—phase IV.

Brief Description of Disapproved Project:

Conduct airport surveillance radar relocation study.

Determination: Disapproved. The FAA determined that this study does not meet the requirements of § 158.15(b)(2).

Decision Date: October 11, 2013.

FOR FURTHER INFORMATION CONTACT: Darlene Williams, Los Angeles Airports District Office, (310) 725-3625.

Public Agency: City and County of San Francisco, San Francisco, California.

Application Number: 11-05-C-00-SFO.

Application Type: Impose and use a PFC.

PFC Level: $4.50.

Total PFC Revenue Approved in This Decision: $610,451,805.

Earliest Charge Effective Date: January 1, 2017.

Estimated Charge Expiration Date: June 1, 2023.

Class of Air Carriers not Required to Collect PFC's: Nonscheduled/on-demand air carriers filing FAA Form 1800-31 and operating at San Francisco International Airport (SFO).

Determination: Approved. Based on information contained in the public agency's application, the FAA has determined that the approved class accounts for less than 1 percent of the total annual enplanements at SFO.

Brief Description of Projects Approved for Collection and Use:

Terminal 2 and boarding area D renovations.

Decision Date: October 11, 2013.

FOR FURTHER INFORMATION CONTACT: Neil Kumar, San Francisco Airports District Office, (650) 827-7627.

Public Agency: Tulsa Airports Improvement Trust, Tulsa, Oklahoma.

Application Number: 13-09-C-00-TUL.

Application Type: Impose and use a PFC.

PFC Level: $4.50.

Total PFC Revenue Approved in This Decision: $54,675,000.

Earliest Charge Effective Date: October 1, 2022.

Estimated Charge Expiration Date: April 1, 2033.

Class of Air Carriers Not Required to Collect PFC's: Air taxi/commercial operators filing FAA Form 1800-31.

Determination: Approved. Based on information contained in the public agency's application, the FAA has determined that the approved class accounts for less than 1 percent of the total annual enplanements at Tulsa International Airport.

Brief Description of Projects Approved for Collection and Use:

Concourse A rehabilitation.

Terminal building chillers.

PFC consulting services.

Decision Date: October 22, 2013.

FOR FURTHER INFORMATION CONTACT: Don Harris, Arkansas/Oklahoma Airports Development Office, (817) 222-5634.

Amendments to PFC Approvals
Amendment No., city, state | Amendment approved date | Original approved net PFC revenue | Amended approved net PFC revenue | Original estimated charge exp. date | Amended estimated charge exp. date
06-07-C-01-HDN, Hayden, CO | 09/24/13 | $2,199,678 | $2,021,503 | 12/01/11 | 04/01/12
99-03-C-03-BOI, Boise, ID | 09/27/13 | 96,884,411 | 84,362,062 | 08/01/18 | 05/01/16
07-08-C-02-PHX, Phoenix, AZ | 09/30/13 | 187,649,602 | 179,036,442 | 08/01/10 | 08/01/10
01-01-C-01-OXR, Oxnard, CA | 09/30/13 | 872,000 | 631,115 | 03/01/11 | 03/01/11
07-03-C-02-CEC, Crescent City, CA | 09/30/13 | 301,745 | 283,357 | 07/01/13 | 07/01/13
07-03-C-01-RDD, Redding, CA | 09/30/13 | 809,295 | 670,755 | 09/01/11 | 09/01/11
08-04-C-01-STS, Santa Rosa, CA | 09/30/13 | 1,594,049 | 1,319,049 | 04/01/13 | 04/01/13
07-05-C-02-PIH, Pocatello, ID | 10/15/13 | 419,295 | 240,192 | 02/01/10 | 12/01/08
94-01-C-07-ISP, Ronkonkoma, NY | 10/16/13 | 22,382,626 | 22,305,857 | 07/01/04 | 07/01/04
96-02-C-02-ISP, Ronkonkoma, NY | 10/16/13 | 4,497,958 | 4,496,961 | 03/01/05 | 03/01/05
06-06-C-03-LBB, Lubbock, TX | 10/23/13 | 12,451,441 | 12,419,871 | 12/01/13 | 11/01/12
10-07-C-01-LBB, Lubbock, TX | 10/23/13 | 13,101,351 | 7,164,045 | 07/01/19 | 09/01/16

Issued in Washington, DC, on December 30, 2013.
Joe Hebert,
Manager, Financial Analysis and Passenger Facility Charge Branch.

[FR Doc. 2013-31553 Filed 1-3-14; 8:45 am]

BILLING CODE 4910-13-P